DEPARTMENT OF JUSTICE

Antitrust Division

Notice Pursuant to the National Cooperative Research and Production Act of 1993—Information Warfare Research Project Consortium

Notice is hereby given that, on February 22, 2022, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, EpiSys Science, Inc., Poway, CA; EFW, Inc., Fort Worth, TX; Intelsat General Communications LLC, McLean, VA; ITA International LLC, Newport News, VA; Barbaricum LLC, Washington, DC; Red Balloon Security, Inc., New York, NY; Rhombus Power, Inc., Mountain View, CA; Akira Technologies, Washington, DC; BCG Federal Corp, Bethesda, MD; Tiami LLC, Elk Grove, CA; Everactive, Inc., Santa Clara, CA; KSA Integration LLC, Stafford, VA; Roberson and Associates LLC, Schumburg, IL; Chip Scan, Inc., Rockaway Beach, NY; Falconwood, Arlington, VA; Rebellion Defense, Inc., Washington, DC; Optiv Federal, Inc., Denver, CO; Highlight Technologies, Fairfax, VA; Tyto Government Solutions, Inc., Herndon, VA; Clear Ridge Defense LLC, Baltimore, MD; Kryptowire LLC, McLean, VA; and Modern Intelligence, Inc., Austin, TX have been added as parties to this venture.

Also, ADI Technologies, Inc., Chantilly, VA; Assurance Technology Corporation, Carlisle, MA; Aurotech, Inc., Silver Spring, MD; Axon Enterprise, Inc., Scottsdale, GA; Azimuth Corporation, Beavercreek, OH; Belle Artificial Intelligence Corporation, Cambridge, MA; Blue Arc LLC, Aberdeen Proving Ground, MD; Canvass Labs, Inc., La Jolla, CA; CDW Government LLC, Vernon Hills, IL; Cintel, Inc., Huntsville, AL; Cirrus LLC, Walla Walla, WA; Cobham Advanced Electronic Solutions, Tampa, FL; CohesionForce, Inc., Huntsville, AL; Converged Security Solutions LLC, Reston, VA; Critical Frequency Design LLC, Melbourne, FL; Cyber COAST, Inc., Arlington, VA; Cypher Analytics, Inc., San Diego, CA; DataDirect Networks Federal LLC, Columbia, MD; Decision Sciences Incorporated, Ft. Walton Beach, FL; DY4, Inc. dba Curtiss-Wright, Ashburn, VA; Dynamic Integrated Services LLC, Pensacola, FL; Enveil, Inc., Fulton, MD; f5 Government Solutions LLC, Reston, VA; FragCity, Inc., Fredericksburg, VA; Frontier Technology, Inc., Beavercreek, OH; Future Tense LLC Calypso AI, Ashburn, VA; GuidePoint Security Government Solutions, Herndon, VA; Hitachi Vantara Federal Corporation, Reston, VA; Immersion CyKor LLC, Annapolis, MD; Infor, Inc., Alpharetta, GA; Ionic Security, Inc., Atlanta, GA; ITT Enidine, Inc., Orchard Park, NY; Jireh Consulting LLC, Suffolk, VA; Juniper Networks, Inc., Sunnyvale, CA; King Technologies, Inc., San Diego, CA; Klas Telecom Government, Herndon, VA; Maga Design Group, Inc., Washington, DC; Mission Solutions Group, Mt. Pleasant, SC; Netizen Corporation, Allentown, PA; Next Tier Concepts, Inc., Vienna, VA; OneGlobe LLC, Ashburn, VA; PDC America, Seneca, SC, Phacil, Inc., Arlington, VA; PortOne Technology Group LLC, Summerville, SC; Presidio Networked Solutions LLC, Fulton, MD; Qlik Technologies, Inc., King of Prussia, PA; QuickFlex, Inc., San Antonio, TX; r4 Technologies, Inc., Ridgefield, CT; SailPoint Technologies, Inc., Austin, TX; Secure Channels, Inc., Irvine, CA; Sev1Tech, Inc., Woodbridge, VA; Shadow-Soft LLC, Sandy Springs, GA; Stardog Union, Arlington, VA; STEALTHbits Technologies, Inc., Hawthorne, NJ; Systematic, Inc., Centreville, VA; Telecommunication Solutions Group, Inc., Raleigh, NC; The Cameron Bell Corporation dba Gov Solutions Group, Charleston, SC; The Design Knowledge Company, Fairborn, OH; ThoughtSpot, Inc., Palo Alto, CA; Totus Ventures LLC dba Totus Imaging, Summerville, SC; Trewon Technologies LLC, Stafford, VA; Trilogic Systems Corporation, Gloucester, MA; Triumph Enterprises, Inc., Vienna, VA; Tygart Technology, Inc., Fairmont, WV; UBERETHER, Inc., Sterling, VA; Unisys Corporation, Reston, VA; Velocity Works LLC, Pittsburgh, PA; Wireless Systems Solutions LLC, Cary, NC; The Regents of the University of Colorado, Boulder, CO; and Vigilant Technologies, Tempe, AZ, have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on November 10, 2021. A notice was published in the Federal Register pursuant to Section 6(b) of the Act on December 22, 2021 (86 FR 72629).

Suzanne Morris,
Chief, Premerger and Division Statistics, Antitrust Division.

[FR Doc. 2022-05202 Filed 3-10-22; 8:45 am]

BILLING CODE P